DEPARTMENT OF THE INTERIOR

National Park Service

[NPS-WASO-NAGPRA-11022; 2200-1100-665]

Notice of Intent To Repatriate Cultural Items: U.S. Department of Agriculture, Forest Service, Coconino National Forest, Flagstaff, AZ

AGENCY: National Park Service, Interior.

ACTION: Notice.

SUMMARY: The U.S. Department of Agriculture (USDA), Forest Service, Coconino National Forest, in consultation with the appropriate Indian tribe, has determined that the cultural items meet the definition of unassociated funerary objects and repatriation to the Indian tribe stated below may occur if no additional claimants come forward. Representatives of any Indian tribe that believes itself to be culturally affiliated with the cultural items may contact the USDA Forest Service, Southwestern Region.

DATES: Representatives of any Indian tribe that believes it has a cultural affiliation with the cultural items should contact the USDA Forest Service, Southwestern Region at the address below by September 27, 2012.

ADDRESSES: Dr. Frank E. Wozniak, NAGPRA Coordinator, Southwestern Region, USDA Forest Service, 333 Broadway Blvd., SE., Albuquerque, NM 87102, telephone (505) 842-3238.

SUPPLEMENTARY INFORMATION: Notice is here given in accordance with the Native American Graves Protection and Repatriation Act (NAGPRA), 25 U.S.C. 3005, of the intent to repatriate cultural items in the possession of the Natural History Museum of Los Angeles County and under the control of the Coconino National Forest that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural item(s). The National Park Service is not responsible for the determinations in this notice.

History and Description of the Cultural Items

In 1926, three unassociated funerary objects [Catalogue #s A2827.31-1, A2827.31-3 and A2827.31-5] were removed from Elden Pueblo (site NA 142) in Coconino County, AZ, during legally authorized archaeological excavations conducted by Jesse W. Fewkes of the Smithsonian Institution. The Elden Pueblo (site NA 142) is on the Coconino National Forest. These three objects have been curated at the Natural History Museum of Los Angeles County, Los Angeles, CA, since 1931, when the Smithsonian Institution transferred the objects to the musem. The three unassociated funerary objects are two ceramic bowls and one ceramic jar.

Based on archaeological evidence and material culture, Elden Pueblo (site NA 142) has been identified as a Northern Sinagua site, comprised of a pueblo, pithouses, and outlier pueblos, which were occupied in the second half of the 13th and the first quarter of the 14th centuries A.D. The records at the Natural History Museum of Los Angeles County and the Smithsonian Institution indicate that these three cultural items were removed from a burial context and that the human remains were either left in the ground or are not locatable at the present time. Continuities among the ethnographic materials in the Flagstaff area of north central Arizona indicate that the Northern Sinagua sites in that area are affiliated with the Hopi Tribe, Arizona. In addition, oral traditions presented by representatives of the Hopi Tribe support their claims of cultural affiliation with Northern Sinagua sites in this portion of north central Arizona.

Determinations Made by the USDA Forest Service, Southwestern Region

Officials of the USDA Forest Service, Southwestern Region and the Coconino National Forest have determined that:

• Pursuant to 25 U.S.C. 3001(3)(B), the three cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Hopi Tribe, Arizona.

Additional Requestors and Disposition

Representatives of any other Indian tribe that believes itself to be culturally affiliated with the unassociated funerary objects should contact Dr. Frank E. Wozniak, NAGPRA Coordinator, Southwestern Region, USDA Forest Service, 333 Broadway Blvd., SE., Albuquerque, NM 87102, telephone (505) 842-3238 before September 27, 2012. Repatriation of the unassociated funerary objects to the Hopi Tribe, Arizona, may proceed after that date if no additional claimants come forward.

The Coconino National Forest is responsible for notifying the Hopi Tribe, Arizona, that this notice has been published.

Dated: August 6, 2012.
Sherry Hutt,
Manager, National NAGPRA Program.

[FR Doc. 2012-20952 Filed 8-27-12; 8:45 am]

BILLING CODE 4312-50-P